Title 3—

The President

Executive Order 13802 of June 21, 2017

Amending Executive Order 13597

By the authority vested in me as President by the Constitution and the laws of the United States of America, and to support the essential functions of the Department of State's Bureau of Consular Affairs, it is hereby ordered as follows:

Section 1. Amendment to Executive Order 13597. Executive Order 13597 of January 19, 2012 (Establishing Visa and Foreign Visitor Processing Goals and the Task Force on Travel and Competitiveness), is amended by deleting subsection (b)(ii) of section 2 of that order.

Sec. 2. Updated Implementation Plan. The Secretaries of State and Homeland Security, in consultation with the heads of such executive departments and agencies as appropriate, shall revise the implementation plan described in section 2(b) of Executive Order 13597, as necessary and appropriate, consistent with the amendment described in section 1 of this order.

Sec. 3. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 21, 2017.

[FR Doc. 2017-13458

Filed 6-23-17; 8:45 am]

Billing code 3295-F7-P